DEPARTMENT OF ENERGY

Office of Energy Efficiency and Renewable Energy

[Docket No. EERE-2013-BT-DET-0053]

Energy Efficiency Program for Industrial Equipment: Interim Determination Classifying CSA Group as a Nationally Recognized Certification Program for Small Electric Motors

AGENCY: Office of Energy Efficiency and Renewable Energy, Department of Energy.

ACTION: Notice of interim determination and request for public comments.

SUMMARY: This notice announces an interim determination by the U.S. Department of Energy (DOE) classifying CSA Group (CSA) as a nationally recognized certification program under 10 CFR 431.447 and 431.448.

DATES: DOE will accept comments, data, and information with respect to the CSA interim determination until April 3, 2014.

ADDRESSES: You may submit comments, identified by docket number “EERE-2013-BT-DET-0053,” by any of the following methods:

• Federal eRulemaking Portal: http://www.regulations.gov. Follow the instructions for submitting comments.

• Email: CSACertPrgSmElecMotors2013DET0053@ee.doe.gov Include the docket number EERE-2013-BT-DET-0053 in the subject line of the message.

• Mail: Ms. Brenda Edwards, U.S. Department of Energy, Building Technologies Office, Mailstop EE-5B/1000 Independence Avenue SW., Washington, DC 20585-0121. Telephone: (202) 586-2945. Please submit one signed original paper copy.

• Hand Delivery/Courier: Ms. Brenda Edwards, U.S. Department of Energy, Building Technologies Office, 950 L'Enfant Plaza SW., Suite 600, Washington, DC 20024. Please submit one signed original paper copy.

Docket: For access to the docket to read background documents, or comments received, go to the Federal eRulemaking Portal at http://www.regulations.gov/#!docketDetail;D=EERE-2013-BT-DET-0053.

FOR FURTHER INFORMATION CONTACT:

Mr. Lucas Adin, U.S. Department of Energy, Building Technologies Office, Mail Stop EE-5B, Forrestal Building, 1000 Independence Avenue SW., Washington, DC 20585-0121. Telephone: (202) 287-1317. Email: Lucas.Adin@ee.doe.gov.

Mr. Michael Kido, U.S. Department of Energy, Office of the General Counsel, Mail Stop GC-71, Forrestal Building, 1000 Independence Avenue SW., Washington, DC 20585-0103. Telephone: (202) 586-8145. Email: Michael.Kido@hq.doe.gov.

SUPPLEMENTARY INFORMATION:

I. Background and Authority

Part C of Title III of the Energy Policy and Conservation Act contains energy conservation requirements for, among other things, electric motors and small electric motors, including test procedures, energy efficiency standards, and compliance certification requirements. 42 U.S.C. 6311-6316.¹ Section 345(c) of EPCA directs the Secretary of Energy to require manufacturers of electric motors ”to certify through an independent testing or certification program nationally recognized in the United States, that [each electric motor subject to EPCA efficiency standards] meets the applicable standard.” 42 U.S.C. 6316(c).

¹ For editorial reasons, upon codification in the U.S. Code, Part C was re-designated Part A-1.

Regulations to implement this statutory directive are codified in Title 10 of the Code of Federal Regulations Part 431 (10 CFR Part 431) at sections 431.36 (Compliance Certification), 431.20 (Department of Energy recognition of nationally recognized certification programs), and 431.21 (Procedures for recognition and withdrawal of recognition of accreditation bodies and certification programs). Sections 431.20 and 431.21 set forth the criteria and procedures for national recognition of an energy efficiency certification program for electric motors by DOE. With the support of a variety of interests, including industry and energy efficiency advocacy groups, DOE published a final rule on May 4, 2012, that established requirements for small electric motors that are essentially identical to the criteria and procedures for national recognition of an energy efficiency certification program for electric motors. See 77 FR 26608, 26629 (codifying parallel provisions for small electric motors at 10 CFR 431.447 and 431.448).

For a certification program to be classified by the DOE as being nationally recognized in the United States for the testing and certification of small electric motors, the organization operating the program must submit a petition to the Department requesting such classification, in accordance with sections 431.447 and 431.448. In sum, for the Department to grant such a petition, the certification program must: (1) Have satisfactory standards and procedures for conducting and administering a certification system, and for granting a certificate of conformity; (2) be independent of small electric motor manufacturers, importers, distributors, private labelers or vendors; (3) be qualified to operate a certification system in a highly competent manner; and (4) be expert in the test procedures and methodologies in IEEE Standard 112-2004 Test Methods A and B, IEEE Standard 114-2010, CSA Standard C390-10, and CSA C747 or similar procedures and methodologies for determining the energy efficiency of small electric motors, and have satisfactory criteria and procedures for selecting and sampling small electric motors for energy efficiency testing. 10 CFR 431.447(b).

Each petition requesting classification as a nationally recognized certification program must contain a narrative statement as to why the organization meets the above criteria, be accompanied by documentation that supports the narrative statement, and be signed by an authorized representative. 10 CFR 431.447(c).

II. Discussion

Pursuant to sections 431.447 and 431.448, on November 1, 2013, CSA submitted a “Petition for Recognition as a Nationally Recognized Certification Program for small electric motors” (“Petition” or “CSA Petition”). The Petition was accompanied by a cover letter from CSA to the Department, and the petition itself contained five separate sections—(1) Scope and Application, (2) Overview of CSA Group, (3) Certification and Testing—Quality Management System, (4) CSA Group's Motor Efficiency Verification Program—Product Directory, and (5) Examples of Other CSA Group Accreditations. In accordance with the requirements of section 431.448(b), DOE published CSA's petition in the Federal Register on December 30, 2013 and requested public comments. 78 FR 79423.

In response to the notice of petition, the National Electrical Manufacturers Association (NEMA), a trade association representing manufacturers of electrical products and equipment, including small electric motors, submitted comments to DOE in a letter dated January 24, 2013 (Comment response to the published Notice of Petition, No. 3). In these comments, NEMA generally stated its support for CSA's petition and recommended that DOE grant recognition to CSA. The comments also specifically explained that, in NEMA's view, (1) CSA has satisfactory standards and procedures for conducting and administering a certification system, including periodic follow-up to ensure basic model compliance; (2) CSA is independent of small motor manufacturers, importers, distributors, private labelers, or vendors; and (3) CSA is expert in the content and application of the test procedures and methodologies in IEEE Std 112-2004 Test Methods A and B, IEEE Std 114-2010, CSA 390-10, and CSA C747 or similar procedures and methodologies for determining the energy efficiency of small electric motors. NEMA added that CSA uses technically appropriate and statistically rigorous criteria and procedures for selecting and sampling small electric motors for energy efficiency testing.

Having received no other comments regarding CSA's petition, DOE finds no specific cause to reject CSA's request for recognition as a nationally recognized certification program for small electric motors. This determination is based primarily on DOE's previous recognition of CSA as a nationally recognized certification program for electric motors (the sampling and testing requirements for which are substantially the same), as well as the support of the motors industry as expressed by NEMA.

The Department hereby announces its interim determination pursuant to 10 CFR 431.448(d) that CSA is classified as a nationally recognized certification program for small electric motors, and will accept comments on this interim determination until April 3, 2014. Any person submitting written comments to DOE with respect to this interim determination must also, at the same time, send a copy of such comments to CSA. As provided under § 431.448(c), CSA may submit to the Department a written response to any such comments. After receiving any such comments and responses, the Department will issue a final determination on the CSA Petition, in accordance with § 431.448(e) of 10 CFR part 431.

Issued in Washington, DC, on February 26, 2014.
Kathleen B. Hogan,
Deputy Assistant Secretary for Energy Efficiency, Energy Efficiency and Renewable Energy.

[FR Doc. 2014-04718 Filed 3-3-14; 8:45 am]

BILLING CODE 6450-01-P